FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Tuesday, July 15, 2014, to consider the following matters:

Summary Agenda: No substantive discussion of the following items is anticipated. These matters will be resolved with a single vote unless a member of the Board of Directors requests that an item be moved to the discussion agenda.

Disposition of minutes of previous Board of Directors' Meetings.

Memorandum and resolution re: Final Rule on Advanced Approaches Risk-Based Capital Rule: Proposed Revisions to the Definition of Eligible Guarantee.

Memorandum and resolution re: Final Rule on Review of Regulations Transferred from the Former Office of Thrift Supervision: Part 390, Subpart H—Disclosure and Reporting of CRA-Related Agreements.

Memorandum and resolution re: Final Rule on the Removal of Transferred Office of Thrift Institution Regulation 12 CFR Part 390, Subpart A—Restrictions on Post-Employment Activities of Senior Examiners.

Memorandum and resolution re: Notice of Proposed Rulemaking on Review of Regulations Transferred from the Former Office of Thrift Supervision: Part 390, Subpart V—Management Official Interlocks.

Memorandum and resolution re: Notice of Proposed Rulemaking on Review of Regulations Transferred from the Former Office of Thrift Supervision: Part 390, Subpart L—Electronic Operations.

Memorandum and resolution re: Notice of Proposed Rulemaking on Rescission and Removal of Regulations Transferred from the Office of Thrift Supervision: Part 390, Subpart N—Possession by Conservators and Receivers for Federal and State Savings Associations.

Summary reports, status reports, reports of the Office of Inspector General, and reports of actions taken pursuant to authority delegated by the Board of Directors.

Discussion Agenda:

Memorandum and resolution re: Notice of Proposed Rulemaking on Revisions to the Deposit Insurance Assessment System.

The meeting will be held in the Board Room on the sixth floor of the FDIC Building located at 550 17th Street NW., Washington, DC.

This Board meeting will be Webcast live via the Internet and subsequently made available on-demand approximately one week after the event. Visit https://fdic.primetime.mediaplatform.com/#/channel/1232003497484/Board+Meetings to view the event. If you need any technical assistance, please visit our Video Help page at: http://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: July 8, 2014
Federal Deposit Insurance Corporation.
(SEAL)
081997
By
Robert E. Feldman,
Executive Secretary.

[FR Doc. 2014-17082 Filed 7-16-14; 4:15 pm]

BILLING CODE 6714-01-P